DEPARTMENT OF ENERGY

Federal Energy Regulatory Commission

[Project No. 14889-000]

Notice of Preliminary Permit Application Accepted for Filing and Soliciting Comments, Motions To Intervene, and Competing Applications: FreedomWorks, LLC

On August 24, 2018, FreedomWorks, LLC, filed an application for a preliminary permit, pursuant to section 4(f) of the Federal Power Act (FPA), proposing to study the feasibility of the Big Run Pump Storage Hydro Project to be located near Parsons in Tucker County, West Virginia. The sole purpose of a preliminary permit, if issued, is to grant the permit holder priority to file a license application during the permit term. A preliminary permit does not authorize the permit holder to perform any land-disturbing activities or otherwise enter upon lands or waters owned by others without the owners' express permission.

The proposed project would consist of the following: (1) A new upper reservoir with a surface area of 1,213 acres and a storage capacity of 119,387 acre-feet at a surface elevation of approximately 3,350 feet above mean sea level (msl) created through construction of a circular dam and/or dike; (2) a new lower reservoir with a surface area of 1,061 acres and a storage capacity of 113,398 acre-feet at a surface elevation of 2,250 feet msl created through construction of a semi-circular dam; (3) as many as four new 7,000-foot-long, 12-foot-diameter penstocks connecting the upper reservoir and lower reservoir; (4) a new 600-foot-long, 50-foot-wide, 25-foot-high powerhouse containing four turbine-generator units with a total rated capacity of 1,000 megawatts; (5) a new transmission line connecting the powerhouse to a nearby electric grid interconnection point with options to evaluate multiple grid interconnection locations; and (6) appurtenant facilities. The proposed project would have an annual generation of 4,380,000 megawatt-hours.

Applicant Contact: Tim Williamson, FreedomWorks, LLC, 525 Wren Lane, Harpers Ferry, WV 25425; phone: 267-254-6107.

FERC Contact: Woohee Choi; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14889-000.

More information about this project, including a copy of the application, can be viewed or printed on the “eLibrary” link of the Commission's website at http://www.ferc.gov/docs-filing/elibrary.asp. Enter the docket number (P-14889) in the docket number field to access the document. For assistance, contact FERC Online Support.

Dated: October 29, 2018.
Kimberly D. Bose,
Secretary.

[FR Doc. 2018-24000 Filed 11-1-18; 8:45 am]

BILLING CODE 6717-01-P